DEPARTMENT OF EDUCATION

Applications for New Awards; Native American Career and Technical Education Program (NACTEP)

AGENCY: Office of Career, Technical, and Adult Education, Department of Education.

ACTION: Notice.

SUMMARY: The Department of Education (Department) is issuing a notice inviting applications for new awards for fiscal year (FY) 2021 for the Native American Career and Technical Education Program (NACTEP), Assistance Listing number 84.101A. This notice relates to the approved information collection under OMB control number 1830-0542.

DATES:

Applications Available: November 30, 2020.

Deadline for Notice of Intent to Apply: Applicants are strongly encouraged, but not required, to submit a notice of intent to apply by December 30, 2020.

Date of Pre-Application Meeting: December 9, 2020.

Deadline for Transmittal of Applications: [INSERT DATE 60 DAYS AFTER DATE OF PUBLICATION IN THE FEDERAL REGISTER].

Pre-Application Webinar Information: The Department will hold a pre-application meeting via webinar for prospective applicants on December 9, 2020. More information about the webinar can be found in the application package.

ADDRESSES:

For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Jenny Lambert, U.S. Department of Education, 400 Maryland Avenue SW, Potomac Center Plaza, Room 11-070, Washington, DC 20202. Telephone: (202) 245-6899. Email: NACTEP@ed.gov.

If you use a telecommunications device for the deaf (TDD) or a text telephone (TTY), call the Federal Relay Service (FRS), toll free, at 1-800-877-8339.

SUPPLEMENTARY INFORMATION: Full Text of Announcement

I. Funding Opportunity Description

Purpose of Program: NACTEP provides grants to improve career and technical education (CTE) programs that are consistent with the purposes of the Carl D. Perkins Career and Technical Education Act of 2006, as amended by the Strengthening Career and Technical Education for the 21st Century Act (the Act or Perkins V) and that benefit Native Americans and Alaska Natives.

Background: This notice invites applications for a NACTEP competition that implements the reauthorized section 116 of the Act. As under the prior law, section 116 of the Act continues to authorize the Secretary of Education (Secretary) to award grants to, or enter into cooperative agreements or contracts with, Indian Tribes, Tribal organizations, and Alaska Native entities to operate CTE projects that improve CTE for Native American and Alaska Native students.

Under section 116 of the Act, a Bureau-funded school (as defined in this notice) is not eligible to apply for NACTEP funds for its general education program. Its application must be to carry out a supplemental CTE program in its secondary school.

Statutory Changes Affecting NACTEP: For the convenience of applicants, we summarize in this notice some of the major statutory changes made to the Carl D. Perkins Career and Technical Education Act of 2006 by the Strengthening Career and Technical Education for the 21st Century Act that are relevant to NACTEP. This summary is not meant to be comprehensive of all Perkins V changes applicable to NACTEP.

(a) Purpose. Congress amended the statement of purpose of the law in the Act, most significantly by adding, as a new purpose, increasing employment opportunities for populations who are chronically unemployed or underemployed, including individuals with disabilities, individuals from economically disadvantaged families, out-of-workforce individuals, youth who are in, or have aged out of, the foster care system, and homeless individuals (20 U.S.C. 2301(8)). Other amendments to the purpose incorporate references to programs of study and the development of employability skills by students; delete the term “tech-prep education”; and change a reference to “high-demand occupations” to “in-demand occupation,” a new term defined by the Act (20 U.S.C. 2302(26)).

(b) Definitions. Congress amended the definitions of certain terms that affect NACTEP. Most significant among these are changes to the definition of “career and technical education” in section 3(5) of the Act (20 U.S.C. 2302(5)). The new definition of CTE now includes that CTE programs may provide “a recognized postsecondary credential,” as defined in section 3 of the Workforce Innovation and Opportunity Act (WIOA),¹ and that CTE may include “career exploration at the high school level or as early as the middle grades (as such term is defined in section 8101 of the Elementary and Secondary Education Act of 1965)”.² The amended definition of CTE also provides that, to the extent practicable, CTE should include coordination between secondary and postsecondary education programs through programs of study, which may include coordination through articulation agreements, early college high school programs, dual or concurrent enrollment program opportunities, or other credit transfer agreements that provide postsecondary credit or advanced standing.

¹ Section 3(52) of WIOA defines the term “recognized postsecondary credential” to mean “a credential consisting of an industry-recognized certificate or certification, a certificate of completion of an apprenticeship, a license recognized by the State involved or Federal Government, or an associate or baccalaureate degree.”

² Section 8101(32) of the Elementary and Secondary Education Act of 1965, as amended (ESEA), defines the term “middle grades” to mean “any of grades 5 through 8.”

Additionally, the definition of CTE now includes work-based learning. For NACTEP grantees, this means that students may be paid stipends not only for time they spend in class receiving instruction, but also for participating in unpaid work-based learning that is part of a CTE program that meets the Act's definition of CTE.

Congress also made significant changes to the definition of “special populations” (20 U.S.C. 2302 (48)). The Act now includes three additional subpopulations within this definition: homeless individuals described in section 725 of the McKinney-Vento Homeless Assistance Act (42 U.S.C. 11434a); youth who are in, or have aged out of, the foster care system; and youth with a parent who is a member of the armed forces (as defined in 10 U.S.C. 101(a)(4)) and who is on active duty (as defined in 10 U.S.C. 101(d)(1)). Also, the term “displaced homemakers” has been removed and replaced by the term “out-of-workforce individuals,” which includes: displaced homemakers, as defined in section 3 of WIOA (29 U.S.C. 3102); and unemployed or underemployed individuals who are experiencing difficulty in obtaining or upgrading employment who are either an individual who has worked primarily without remuneration to care for a home and family, and for that reason has diminished marketable skills, or is a parent whose youngest dependent child will become ineligible to receive assistance under the Temporary Assistance for Needy Families (TANF) program not later than two years after the date on which the parent applies for TANF assistance (20 U.S.C. 2302(36)). Additionally, the term “individuals with limited English proficiency” has been changed to “English learners” and the definition of this latter term has been aligned with the definition of this term in ESEA so that it now includes any secondary student who is an English learner as defined by section 8101 of ESEA (20 U.S.C. 2302 (22)). Finally, the Act now includes a definition of “work-based learning” (20 U.S.C. 2302(55)).

(c) Authorized activities. A new allowable use of funds in the Act permits NACTEP grant funds to be used to provide preparatory, refresher, and remedial education services that are designed to enable students to achieve success in CTE programs or programs of study (20 U.S.C. 2326(c)(2)).

Tribal Consultation: In accordance with the Department's commitment to engage in regular and meaningful consultation and collaboration with Indian Tribes, the Office of Career, Technical, and Adult Education (OCTAE) and the White House Initiative on American Indian and Alaska Native Education conducted a Tribal Consultation regarding NACTEP on April 27, 2020. Consistent with the Department's trust responsibility to Tribes and its Tribal Consultation Policy, views were sought from elected officials of federally recognized Tribes as well as stakeholders and educators from the Tribal community to inform the Department's policy decisions related to changes in the Act pertaining to allowable uses of funds, the definition of CTE, and student stipends. The consultation also included discussion of the independent evaluation requirement established by the notice of final requirements, definitions, and selection criteria for this program (Notice of Final Requirements), published in the Federal Register on February 26, 2013 (78 FR 12955), the integration of services, and improving CTE student outcomes.³

³ Notes from the Tribal consultation are available on the Department's website at https://cte.ed.gov/cal/tribal-consultation-nactep-april-27-2020.

Requirements and Selection Criteria: This notice includes application and program requirements and selection criteria that are based on statutory requirements or the Notice of Final Requirements, but that are established in accordance with section 437(d)(1) of General Education Provisions Act (GEPA) in order to make some modifications to those requirements and selection criteria.

Priority: This priority is from the Secretary's notice of final supplemental priorities and definitions, published in the Federal Register on March 2, 2018 (83 FR 9096) (Supplemental Priorities).

Competitive Preference Priority: For FY 2021, and any subsequent year in which we make awards from the list of unfunded applications from this competition, this priority is a competitive preference priority. Under 34 CFR 75.105(c)(2)(i), we award up to an additional five points to an application, depending on how well the application meets this competitive preference priority. If an applicant chooses to address this competitive preference priority, the project narrative section of its application must identify its response to the competitive preference priority.

This priority is:

Promoting Science, Technology, Engineering, or Math (STEM) Education, With a Particular Focus on Computer Science (up to 5 points). Projects that are designed to improve student achievement or other educational outcomes in one or more of the following areas: Science, technology, engineering, math, or computer science (as defined in this notice). These projects must address increasing access to STEM coursework, including computer science, and hands-on learning opportunities, such as through expanded course offerings, dual-enrollment, high-quality online coursework, or other innovative delivery mechanisms.

Requirements: These application and program requirements are established in accordance with section 437(d)(1) of GEPA unless a specific statutory or regulatory citation for the requirement is provided.

The application requirements are:

(1) An eligible applicant (as determined by the Act) must include documentation in its application showing that it and, if appropriate, its consortium members are eligible to apply.

As defined in the Indian Self-Determination and Education Assistance Act (ISDEAA) (25 U.S.C. 5304(l)), the term “Tribal organization” means the recognized governing body of any Indian Tribe; any legally established organization of Indians which is controlled, sanctioned, or chartered by such governing body or which is democratically elected by the adult members of the Indian community to be served by such organization and which includes the maximum participation of Indians in all phases of its activities: provided, that in any case where a contract is let or grant made to an organization to perform services benefiting more than one Indian Tribe, the approval of each such Indian Tribe shall be a prerequisite to the letting or making of such contract or grant. In accordance with this statutory definition, any Tribal organization proposing to provide NACTEP services for the benefit of more than one Indian Tribe must first obtain the approval of each Indian Tribe it proposes to serve and must submit documentation of such approval with its NACTEP application and that documentation of Tribal approval is a prerequisite to the awarding of a NACTEP grant to any Tribal organization proposing to serve more than one Indian Tribe.

(2) An applicant that is not proposing to provide CTE directly to its students and proposes instead to use NACTEP funds to pay one or more qualified education providers to provide CTE to its students must include with its application a signed memorandum of understanding (MOU) between the applicant and that entity. The MOU must describe the commitment between the applicant and each education provider and must include, at a minimum, a statement of the responsibilities of the applicant and the education provider, including a description of the CTE programming to be provided. The MOU must be signed by the appropriate individuals on behalf of each party, such as the authorizing official or president of a Tribe or Tribal organization, a Bureau-funded school, a college president, or a college dean.

(3) An applicant must indicate whether it intends to consolidate FY 2021 NACTEP funds into a current or future 477 plan as described in Program Requirement 5. Any request to consolidate NACTEP funds into a 477 plan must be made separately to the U.S. Department of Interior.

The program requirements are:

Requirement 1—Authorized Programs

(a) Section 116(e) of the Act requires the Secretary to ensure that activities funded under NACTEP “will improve career and technical education programs” (20 U.S.C. 2326(e)), as the term “career and technical education” is defined by the Act as amended by the Strengthening Career and Technical Education for the 21st Century Act (20 U.S.C. 2302 (5)). Therefore, under NACTEP, the Assistant Secretary will award grants to carry out projects that—

(1) Propose organized educational activities offering a sequence of courses that—

(A) Provide individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(B) Provide technical skill proficiency or a recognized postsecondary credential, which may include an industry-recognized credential, a certificate, or an associate degree; and

(C) May include prerequisite courses that meet the requirements of this subparagraph;

(2) Include competency-based, work-based, or other applied learning that supports the development of academic knowledge, higher-order reasoning and problem-solving skills, work attitudes, employability skills, technical skills, and occupation-specific skills, and knowledge of all aspects of an industry, including entrepreneurship, of an individual;

(3) To the extent practicable, coordinate between secondary and postsecondary education programs through programs of study, which may include coordination through articulation agreements, early college high school programs, dual or concurrent enrollment program opportunities, or other credit transfer agreements that provide postsecondary credit or advanced standing; and

(4) May include career exploration at the high school level or as early as the middle grades (as such term is defined in section 8101 of ESEA).

(b) Special rule. Notwithstanding section 3(5)(A)(iii) of the Act, which excludes remedial courses from the definition of “career and technical education,” funds made available under NACTEP for CTE may be used to provide preparatory, refresher, and remedial education services that are designed to enable students to achieve success in CTE programs or programs of study.

(c) Assistance to Bureau-funded secondary schools. An Indian Tribe, a Tribal organization, or an Alaska Native entity that receives funds through a NACTEP grant or contract may use the funds to provide assistance to a secondary school operated or supported by the U.S. Department of the Interior to enable such school to carry out CTE programs. (Section 116(b)(3) of the Act)

Note: A Bureau-funded secondary school is not eligible to directly apply for NACTEP funds for its general education secondary school program. Its application must be to carry out a supplemental CTE program in its secondary school.

Requirement 2—Evaluation

To help ensure the high quality of NACTEP projects and the achievement of the goals and purposes of section 116 of the Act, each grantee must budget for and conduct an ongoing evaluation of its NACTEP project. An independent evaluator must conduct the evaluation. The evaluation must be appropriate for the project and be both formative and summative in nature.

Requirement 3—Student Stipends

In accordance with section 116(c)(3) of the Act, a portion of an award under this program may be used to provide stipends (as defined in this notice) to one or more students to help meet the students' costs of participation in a NACTEP project. A grantee must apply the following procedures for determining student eligibility for stipends and appropriate amounts to be awarded as stipends:

(1) To be eligible for a stipend a student must—

(i) Be enrolled in a CTE project funded under this program;

(ii) Be in regular attendance in a NACTEP project and meet the training institution's attendance requirement;

(iii) Maintain satisfactory progress in his or her program of study according to the training institution's published standards for satisfactory progress; and

(iv) Have an acute economic need that—

(A) Prevents participation in a CTE in a project funded under this program without a stipend; and

(B) Cannot be met through a work-study program.

(2) The amount of a stipend is the greater of either the minimum hourly wage prescribed by State or local law or the minimum hourly wage established under the Fair Labor Standards Act.

(3) A grantee may only award a stipend if the stipend combined with other resources the student receives does not exceed the student's financial need. A student's financial need is the difference between the student's cost of attendance and the financial aid or other resources available to defray the student's cost of participating in a NACTEP project.

(4) To calculate the amount of a student's stipend, a grantee would multiply the number of hours a student actually attends CTE instruction by the amount of the minimum hourly wage that is prescribed by State or local law, or by the minimum hourly wage that is established under the Fair Labor Standards Act.

Example: If a grantee uses the Fair Labor Standards Act minimum hourly wage of $7.25 and a student attends classes and/or participates in work-based learning (WBL) for 20 hours a week, the student's stipend would be $145 for the week during which the student attends classes ($7.25 × 20 = $145.00).

Note: In accordance with applicable Department statutory requirements and administrative regulations, grantees must maintain records that fully support their decisions to award stipends and the amounts that are paid, such as proof of a student's enrollment in a CTE program or program of study supported with NACTEP funds, stipend applications, timesheets showing the number of attendance hours confirmed in writing by an instructor, student financial status information, and evidence that a student would not be able to participate in the CTE program or program of study supported with NACTEP funds without a stipend. (Notice of Final Requirements).

(5) An eligible student may receive a stipend when taking a course for the first time. However, generally, a stipend may not be provided to a student who has already taken, completed, and had the opportunity to benefit from a course and is merely repeating the course.

(6) An applicant must include in its application the procedure it intends to use to determine student eligibility for stipends and stipend amounts, and its oversight procedures for the awarding and payment of stipends. (Notice of Final Requirements).

Requirement 4—Direct Assistance to Students

A grantee may provide direct assistance to students if the following conditions are met:

(1) The recipient of the direct assistance is an individual who is a member of a special population and who is participating in the grantee's NACTEP project.

(2) The direct assistance is needed to address barriers to the individual's successful participation in that project.

(3) The direct assistance is part of a broader, more generally focused program or activity to address the needs of an individual who is a member of a special population.

Note: Direct assistance to individuals who are members of special populations is not, by itself, a “program or activity for special populations.”

(4) The grant funds used for direct assistance must be expended to supplement, and not supplant, assistance that is otherwise available from non-Federal sources. (20 U.S.C. 2391(a)). For example, generally, a postsecondary educational institution could not use NACTEP funds to provide child care for single parents if non-Federal funds previously were made available for this purpose, or if non-Federal funds are used to provide child care services for single parents participating in non-CTE programs and these services otherwise would have been available to CTE students in the absence of NACTEP funds.

(5) In determining how much of the NACTEP grant funds it will use for direct assistance to an eligible student, a grantee must consider whether the specific services to be provided are a reasonable and necessary cost of providing CTE programs for special populations. However, the Assistant Secretary does not envision a circumstance in which it would be a reasonable and necessary expenditure of NACTEP project funds for a grantee to use a majority of a project's budget to pay direct assistance to students, in lieu of providing the students served by the project with CTE. (Notice of Final Requirements).

Requirement 5—Integration of Services

Section 116(f) of the Act provides that a Tribe, Tribal organization, or Alaska Native entity receiving financial assistance under this program may integrate those funds with assistance received from related programs in accordance with the provisions of Public Law 115-93, the Indian Employment, Training and Related Services Consolidation Act of 2017 (25 U.S.C. 3401 et seq.). An entity wishing to integrate funds must have a plan that meets the requirements of the Indian Employment, Training and Related Services Consolidation Act of 2017 and is acceptable to the Secretary of the Interior and the Secretary of Education.

Note: Current NACTEP grantees that integrate NACTEP funds with other grant funds pursuant to an approved plan under section 477 of the Indian Employment, Training and Related Services Consolidation Act of 2017 (a 477 plan) must apply for a new NACTEP grant under this competition by submitting an application that meets all of the requirements included in this notice.

Note: Any applicant who either currently has an approved 477 plan, or intends to submit a 477 application, that seeks to include FY 2021 NACTEP funds (if awarded) must indicate the intent to consolidate FY 2021 NACTEP funds into a current or future 477 plan in the NACTEP application as detailed in Application Requirement 3. Any request to consolidate NACTEP funds into a 477 plan must be made separately to the U.S. Department of Interior.

Note: In order for the Department to ensure that FY 2021 NACTEP funds are efficiently transferred to the Department of Interior for 477 plan purposes (as per 25 U.S.C. 3412(a)), the Department must receive a 477 plan application that seeks to include FY 2021 NACTEP funds no later than May 15, 2021.

For further information on the integration of grant funds under this and related programs, contact the Division of Workforce Development, Office of Indian Services, Bureau of Indian Affairs, U.S. Department of the Interior. Email: BIA_477Program@bia.gov.

Requirement 6: ISDEAA Statutory Hiring Preference

(1) Awards that are primarily for the benefit of Indians are subject to the provisions of section 7(b) of the Indian Self-Determination and Education Assistance Act (Pub. L. 93-638). That section requires that, to the greatest extent feasible, a grantee—

(i) Give to Indians preferences and opportunities for training and employment in connection with the administration of the grant; and

(ii) Give to Indian organizations and to Indian-owned economic enterprises, as defined in section 3 of the Indian Financing Act of 1974 (25 U.S.C. 1452(e)), preference in the award of contracts in connection with the administration of the grant.

(2) For purposes of Requirement 6, an Indian is a member of any federally recognized Indian Tribe. (25 U.S.C. 5307(b))

Definitions: These definitions are from the Act, the Supplemental Priorities, or the Notice of Final Requirements, or established in accordance with section 437(d)(1) of GEPA. The source of each definition is noted after the definition.

Acute economic need means an income that is at or below the national poverty level according to the latest available data from the U.S. Department of Commerce or the U.S. Department of Health and Human Services Poverty Guidelines. (Notice of Final Requirements).

Alaska Native or Native means a citizen of the United States who is a person of one-fourth degree or more Alaska Indian (including Tsimshian Indians not enrolled in the Metlaktla Indian Community ⁴) Eskimo, or Aleut blood, or a combination thereof. The term includes—

⁴ The correct name of this community is Metlakatla Indian Community. It is misspelled in the Alaska Native Claims Settlement Act, which is the source of this definition.

(a) Any Native, as so defined, either or both of whose adoptive parents are not Natives; and

(b) In the absence of proof of a minimum blood quantum, any citizen of the United States who is regarded as an Alaska Native by the Native village or Native group of which he or she claims to be a member and whose father or mother is (or, if deceased, was) regarded as Native by any village or group. Any decision of the Secretary of the Interior regarding eligibility for enrollment will be final. (20 U.S.C. 2326(a)(1); 43 U.S.C. 1602(b)).

Alaska Native entity means an entity such as an Alaska Native village, group, or regional or village corporation. (section 437(d)(1) of GEPA).

Alaska Native group means any Tribe, band, clan, village, community, or village association of Natives in Alaska composed of less than twenty-five Natives, who comprise a majority of the residents of the locality. (43 U.S.C. 1602(d)).

Alaska Native village means any Tribe, band, clan, group, village, community, or association in Alaska listed in sections 1610 and 1615 of the Alaska Native Claims Settlement Act, or that meets the requirements of chapter 33 of the Alaska Native Claims Settlement Act, and that the Secretary of the Interior determines was, on the 1970 census enumeration date (as shown by the census or other evidence satisfactory to the Secretary of the Interior, who shall make findings of fact in each instance), composed of twenty-five or more Natives. (43 U.S.C. 1602(c)).

Alaska regional corporation means an Alaska Native regional corporation established under the laws of the State of Alaska in accordance with the provisions of chapter 33 of the Alaska Native Claims Settlement Act. (43 U.S.C. 1602(g)).

Alaska village corporation means an Alaska Native village corporation organized under the laws of the State of Alaska as a business for profit or nonprofit corporation to hold, invest, manage and/or distribute lands, property, funds, and other rights and assets for and on behalf of an Alaska Native village, in accordance with the terms of chapter 33 of the Alaska Native Claims Settlement Act. (43 U.S.C. 1602(j)).

Bureau means the Bureau of Indian Affairs of the U.S. Department of the Interior. (25 U.S.C. 2021(2)).

Bureau-funded school means—

(a) A Bureau-operated elementary or secondary day or boarding school or Bureau-operated dormitory for students attending a school other than a Bureau school. (25 U.S.C. 2021(3) and (4));

(b) An elementary school, secondary school, or dormitory that receives financial assistance for its operation under a contract, grant, or agreement with the Bureau under section 102, 103(a), or 208 of the ISDEAA (25 U.S.C. 5321, 5322(a), or 5355) or under the Tribally Controlled Schools Act of 1988 (25 U.S.C. 2504 et seq.). (25 U.S.C. 2021(3) and (6)); or

(c) A school for which assistance is provided under the Tribally Controlled Schools Act of 1988 (25 U.S.C. 2501 et seq.). (25 U.S.C. 2021(3)).

Career and technical education (CTE) means organized educational activities that—

(a) Offer a sequence of courses that—

(1) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(2) Provides technical skill proficiency or a recognized postsecondary credential, which may include an industry-recognized credential, a certificate, or an associate degree; and

(3) May include prerequisite courses (other than a remedial course) ⁵ that meet the requirements of this paragraph (a);

⁵ Section 116(c)(2) of the Act provides that, notwithstanding the exclusion of remedial courses from the Act's definition of CTE, funds made available under NACTEP “may be used to provide preparatory, refresher, and remedial education services that are designed to enable students to achieve success in career and technical education programs or programs of study.”

(b) Include competency-based, work-based, or other applied learning that supports the development of academic knowledge, higher-order reasoning and problem-solving skills, work attitudes, employability skills, technical skills, and occupation-specific skills, and knowledge of all aspects of an industry, including entrepreneurship, of an individual;

(c) To the extent practicable, coordinate between secondary and postsecondary education programs through programs of study, which may include coordination through articulation agreements, early college high school programs, dual or concurrent enrollment program opportunities, or other credit transfer agreements that provide postsecondary credit or advanced standing; and

(d) May include career exploration at the high school level or as early as the middle grades (as such term is defined in section 8101 of the ESEA). (20 U.S.C. 2302(5)).

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects. (Supplemental Priorities).

CTE concentrator means—

(a) At the secondary school level, a student served by an eligible recipient who has completed at least 2 courses in a single career and technical education program or program of study; and

(b) At the postsecondary level, a student enrolled in an eligible recipient who has—

(1) Earned at least 12 credits within a career and technical education program or program of study; or

(2) Completed such a program if the program encompasses fewer than 12 credits or the equivalent in total. (20 U.S.C. 2302(12))

Direct assistance to students means tuition, dependent care, transportation, books, and supplies that are necessary for a student to participate in a CTE program or program of study supported with NACTEP funds. (Notice of Final Requirements).

In-demand industry sector or occupation means—

(a) An industry sector that has a substantial current or potential impact (including through jobs that lead to economic self-sufficiency and opportunities for advancement) on the State, regional, or local economy, as appropriate, and that contributes to the growth or stability of other supporting businesses, or the growth of other industry sectors; or

(b) An occupation that currently has or is projected to have a number of positions (including positions that lead to economic self-sufficiency and opportunities for advancement) in an industry sector so as to have a significant impact on the State, regional, or local economy, as appropriate. (29 U.S.C. 3102).

Indian means a person who is a member of an Indian Tribe. (25 U.S.C. 5304(d)).

Indian Tribe means any Indian Tribe, band, nation, or other organized group or community, including any Alaska Native village or regional or village corporation as defined in or established pursuant to the Alaska Native Claims Settlement Act (43 U.S.C. 1601 et seq.), which is recognized as eligible for the special programs and services provided by the United States to Indians because of their status as Indians. (25 U.S.C. 5304(e)).

Institution of higher education means—

(a) An educational institution in any State that—

(1) Admits as regular students only persons having a certificate of graduation from a school providing secondary education, or the recognized equivalent of such a certificate or persons who meet the requirements of section 1091(d) of this title;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary has determined that there is satisfactory assurance that the institution will meet the accreditation standards of such an agency or association within a reasonable time.

(b) The term also includes—

(1) Any school that provides not less than a 1-year program of training to prepare students for gainful employment in a recognized occupation and that meets the provisions of paragraphs (1), (2), (4), and (5) of paragraph (a); and

(2) A public or nonprofit private educational institution in any State that, in lieu of the requirement in paragraph (a)(1) of this definition, admits as regular students individuals who are beyond the age of compulsory school attendance in the State in which the institution is located or, (B) who will be dually or concurrently enrolled in the institution and a secondary school. (20 U.S.C. 1001(a) and (b)).

Professional development means activities that—(a) are an integral part of eligible agency, eligible recipient, institution, or school strategies for providing educators (including teachers, principals, other school leaders, administrators, specialized instructional support personnel, career guidance and academic counselors, and paraprofessionals) with the knowledge and skills necessary to enable students to succeed in career and technical education, to meet challenging State academic standards under section 1111(b)(1) of ESEA, or to achieve academic skills at the postsecondary level; and

(b) Are sustained (not stand-alone, 1-day, or short-term workshops), intensive, collaborative, job-embedded, data-driven, and classroom-focused, to the extent practicable evidence-based, and may include activities that—-

(1) Improve and increase educators'—

(A) Knowledge of the academic and technical subjects;

(B) Understanding of how students learn; and

(C) Ability to analyze student work and achievement from multiple sources, including how to adjust instructional strategies, assessments, and materials based on such analysis;

(2) Are an integral part of eligible recipients' improvement plans;

(3) Allow personalized plans for each educator to address the educator's specific needs identified in observation or other feedback;

(4) Support the recruitment, hiring, and training of effective educators, including educators who became certified through State and local alternative routes to certification;

(5) Advance educator understanding of—

(A) Effective instructional strategies that are evidence-based; and

(B) Strategies for improving student academic and technical achievement or substantially increasing the knowledge and teaching skills of educators;

(6) Are developed with extensive participation of educators, parents, students, and representatives of Indian Tribes (as applicable), of schools and institutions served under the Act;

(7) Are designed to give educators of students who are English learners in career and technical education programs or programs of study the knowledge and skills to provide instruction and appropriate language and academic support services to those students, including the appropriate use of curricula and assessments;

(8) As a whole, are regularly evaluated for their impact on increased educator effectiveness and improved student academic and technical achievement, with the findings of the evaluations used to improve the quality of professional development;

(9) Are designed to give educators of individuals with disabilities in career and technical education programs or programs of study the knowledge and skills to provide instruction and academic support services to those individuals, including positive behavioral interventions and supports, multi-tier system of supports, and use of accommodations;

(10) Include instruction in the use of data and assessments to inform and instruct classroom practice;

(11) Include instruction in ways that educators may work more effectively with parents and families;

(12) Provide follow-up training to educators who have

participated in activities described in this definition that are designed to ensure that the knowledge and skills learned by the educators are implemented in the classroom;

(13) Promote the integration of academic knowledge and skills and relevant technical knowledge and skills, including programming jointly delivered to academic and career and technical education teachers; or

(14) Increase the ability of educators providing career and technical education instruction to stay current with industry standards. (20 U.S.C. 2302(40)).

Program of study means a coordinated, nonduplicative sequence of academic and technical content at the secondary and postsecondary level that—

(A) Incorporates challenging State academic standards, including those adopted by a State under section 1111(b)(1) of ESEA;

(B) Addresses both academic and technical knowledge and skills, including employability skills;

(C) Is aligned with the needs of industries in the economy of the State, region, Tribal community, or local area;

(D) Progresses in specificity (beginning with all aspects of an industry or career cluster and leading to more occupation-specific instruction);

(E) Has multiple entry and exit points that incorporate credentialing; and

(F) Culminates in the attainment of a recognized postsecondary credential. (20 U.S.C. 2302 (41)).

Recognized postsecondary credential means a credential consisting of an industry-recognized certificate or certification, a certificate of completion of an apprenticeship, a license recognized by the State involved or Federal Government, or an associate or baccalaureate degree. (29 U.S.C. 3102(52)).

Secondary school means a nonprofit institutional day or residential school, including a public secondary charter school, that provides secondary education, as determined under State law, except that the term does not include any education beyond grade 12. (20 U.S.C.7801(45)).

Special populations means—

(a) Individuals with disabilities;

(b) Individuals from economically disadvantaged families, including low-income youth and adults;

(c) Individuals preparing for non-traditional fields; (d) Single parents, including single pregnant women;

(e) Out-of-workforce individuals;

(f) English learners;

(g) Homeless individuals described in section 725 of the McKinney-Vento Homeless Assistance Act (42 U.S.C. 11434a);

(h) Youth who are in, or have aged out of, the foster care system; and

(i) Youth with a parent who—

(i) Is a member of the armed forces (as such term is defined in section 101(a)(4) of title 10, United States Code); and

(ii) Is on active duty (as such term is defined in section 101(d)(1) of such title). (20 U.S.C. 2302(48)).

Stipend means a subsistence allowance for a student that is necessary for the student to participate in a CTE program or program of study supported with NACTEP funds. (Notice of Final Requirements).

Support services means services related to curriculum modification, equipment modification, classroom modification, supportive personnel (including paraprofessionals and specialized instructional support personnel), and instructional aids and devices. (20 U.S.C. 2302(50)).

Tribal organization means the recognized governing body of any Indian Tribe; any legally established organization of Indians that is controlled, sanctioned, or chartered by such governing body or that is democratically elected by the adult members of the Indian community to be served by such organization and that includes the maximum participation of Indians in all phases of its activities: Provided, that, in any case where a contract is let or grant made to an organization to perform services benefiting more than one Indian Tribe, the approval of each such Indian Tribe shall be a prerequisite to the letting or making of such contract or grant. (25 U.S.C. 5304(l)).

Tribally controlled college or university means an institution of higher education that is formally controlled, or has been formally sanctioned, or chartered, by the governing body of an Indian tribe or tribes, except that no more than one such institution shall be recognized with respect to any such tribe. (25 U.S.C. 1801(a)(4)).

Work-based learning means sustained interactions with industry or community professionals in real workplace settings, to the extent practicable, or simulated environments at an educational institution that foster in-depth, firsthand engagement with the tasks required of a given career field, that are aligned to curriculum and instruction. (20 U.S.C. 2302 (55)).

Waiver of Proposed Rulemaking: Under the Administrative Procedure Act (5 U.S.C. 553), the Department generally offers interested parties the opportunity to comment on proposed priorities, requirements, and definitions. Section 437(d)(1) of GEPA, however, allows the Secretary to exempt from rulemaking requirements regulations governing the first grant competition under a new or substantially revised program authority. This is the first grant competition for this substantially revised program under section 116 of the Carl D. Perkins Career and Technical Education Act of 2006, as amended by the Strengthening Career and Technical Education for the 21st Century Act, 20 U.S.C. 2326, and therefore qualifies for this exemption. In order to ensure timely grant awards, the Secretary has decided to forgo public comment on certain requirements, definitions, and selection criteria under section 437(d)(1) of GEPA. These requirements, definitions, and selection criteria will apply to the FY 2021 grant competition and any subsequent year in which we make awards from the list of unfunded applications from this competition.

Program Authority: 20 U.S.C. 2301, et seq., particularly 2326(a)-(g).

Note: Projects must be awarded and operated in a manner consistent with the nondiscrimination requirements contained in the U.S. Constitution and the Federal civil rights laws.

Applicable Regulations: (a) The Education Department General Administrative Regulations (EDGAR) in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) Notice of Final Requirements. (e) Supplemental Priorities.

Note: The regulations in 34 CFR part 79 apply to all applicants except federally recognized Indian Tribes.

Note: The regulations in 34 CFR 86 apply to institutions of higher education only.

II. Award Information

Type of Award: Discretionary grants.

Estimated Available Funds: $15,932,000 for the first 12 months of the project period. Funding for years two, three, four and five is subject to the availability of funds and to a grantee meeting the requirements of 34 CFR 75.253.

Contingent upon the availability of funds and the quality of applications, we may make additional awards later in FY 2021 or in subsequent years from the list of unfunded applications from this competition.

Estimated Range of Awards: $451,000 to $551,000.

Estimated Average Size of Awards: $458,000.

Estimated Number of Awards: 35.

Note: The Department is not bound by any estimates in this notice.

Project Period: Up to 60 months.

III. Eligibility Information

1. Eligible Applicants: (a) The following entities are eligible to apply under this competition:

(1) A federally recognized Indian Tribe.

(2) A Tribal organization.

(3) An Alaska Native entity.

(4) A Bureau-funded school, except for a Bureau-funded school proposing to use its award to support general education secondary school programs.

(b) Any Tribe, Tribal organization, Alaska Native entity, or eligible Bureau-funded school may apply individually or as part of a consortium with one or more eligible Tribes, Tribal organizations, Alaska Native entities, or eligible Bureau-funded schools. (Eligible applicants seeking to apply for funds as a consortium must meet the requirements in 34 CFR 75.127-75.129, which apply to group applications.)

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Supplement-Not-Supplant: This competition involves supplement-not-supplant funding requirements. In accordance with section 211(a) of the Act (20 U.S.C. 2391(a)), funds under this program may not be used to supplant non-Federal funds used to carry out CTE activities.

We caution applicants not to plan to use funds under NACTEP to replace otherwise available non-Federal funding for direct assistance to students and family assistance programs. For example, NACTEP funds must not be used to supplant Tribal and other non-Federal funds with Federal funds in order to pay the costs of students' tuition, dependent care, transportation, books, supplies, and other costs associated with participation in a CTE program.

Funds under NACTEP should not be used to replace Federal student financial aid. The Act does not authorize the Secretary to fund projects that serve primarily as entities through which students may apply for and receive tuition and other financial assistance.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

e. Limitation on Services: Section 215 of the Act (20 U.S.C. 2395) forbids the use of Perkins funds for the education of students prior to the middle grades. The term middle grades refers to grades 5 through 8, as defined in section 8101 of ESEA.

3. Subgrantees: Under 34 CFR 75.708 (b) and (c) a grantee under this competition may award subgrants—to directly carry out project activities described in its application—to the following types of entities: Institutions of higher education, nonprofit organizations, Tribal organizations, Bureau-funded schools operating a secondary school CTE program, or Alaska Native entities. The grantee may award subgrants to entities it has identified in an approved application or that it selects through a competition under procedures established by the grantee.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the NACTEP program, your application may include business information that you consider proprietary. In 34 CFR 5.11 we define “business information” and describe the process we use in determining whether any of that information is proprietary and, thus, protected from disclosure under Exemption 4 of the Freedom of Information Act (5 U.S.C. 552, as amended).

Because we plan to make successful applications available to the public on the Department's website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to 35 pages and (2) use the following standards:

• A “page” is 8.5″ × 11″, on one side only, with 1″ margins at the top, bottom, and both sides.

• Double space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply are not bound to apply or bound by the information provided.

V. Application Review Information

1. Selection Criteria: The selection criteria for this program are from the Notice of Final Requirements, the Act, 34 CFR 75.210, or are being established for the FY 2021 grant competition and any subsequent year in which we make awards from the list of unfunded applications from this competition in accordance with section 437(d)(1) of GEPA, 20 U.S.C. 1232(d)(1). The source of each criterion is noted after each criterion.

The maximum score for each criterion is indicated in parentheses.

(a) Need for project (Up to 10 points). In determining the need for the proposed project, we consider the following factors:

(1) The extent to which the proposed project involves, coordinates with, or encourages Tribal economic development plans. (Section 116(e)(1) of the Act). (Up to 5 points).

(2) The extent of the need for the activities to be carried out by the proposed project, as evidenced by local labor market demand or occupational trends data, Tribal economic development plans, or recommendations from accrediting agencies. (Section 437(d)(1) of GEPA). (Up to 5 points).

(b) Quality of the project design (Up to 40 points). In determining the quality of the design of the proposed project, we consider the following factors:

(1) The extent to which the proposed project activities will create opportunities for students to receive a recognized postsecondary credential; become employed in high-skill, high-wage, and in-demand industry sectors or occupations; or both. (Section 437(d)(1) of GEPA). (Up to 20 points).

(2) The extent to which the proposed project will successfully address the needs of the target population or other identified needs, as evidenced by the applicant's description of programs and activities that align with the target population's needs. (Section 437(d)(1) of GEPA). (Up to 10 points).

(3) The extent to which the proposed project will be coordinated with similar or related efforts, and with community, State, or Federal resources, where such opportunities and resources exist. (Section 437(d)(1) of GEPA). (Up to 5 points).

(4) The extent to which the training or professional development services to be provided by the proposed project are of sufficient quality, intensity, and duration to lead to improvements in practice among the recipients of those services. (34 CFR 75.210). (Up to 5 points).

(c) Adequacy of resources (Up to 15 points). In determining the adequacy of resources for the proposed project, we consider the following factors:

(1) The adequacy of support, including facilities, equipment, supplies, and other resources, from the applicant organization(s) and the Tribal entity or entities to be served. (Notice of Final Requirements). (Up to 2 points).

(2) The extent to which the budget is adequate and costs are reasonable in relation to the objectives of the proposed project. (Notice of Final Requirements). (Up to 5 points).

(3) The relevance and demonstrated commitment of the applicant, education providers, members of the consortium, local employers, or Tribal entities to be served by the project (e.g., through signed MOUs, letters of support and commitment, or commitments to employ project participants, as appropriate). (Section 437(d)(1) of GEPA). (Up to 3 points).

(4) The extent to which the project will use instructors who are licensed or certified to teach in the field in which they will provide instruction. (Section 437(d)(1) of GEPA). (Up to 5 points).

(d) Quality of the management plan (Up to 25 points). In determining the quality of the management plan for the proposed project, we consider the following factors:

(1) The adequacy of the management plan to achieve the objectives of the proposed project on time and within budget, including clearly defined project objectives, staff responsibilities, timelines, and the milestones. (Section 437(d)(1) of GEPA). (Up to 10 points).

(2) The extent to which the applicant encourages applications for employment from persons who are members of groups that have traditionally been underrepresented based on race, color, national origin, gender, age, or disability. (Notice of Final Requirements). (Up to 5 points).

(3) The extent to which the time commitments of the project director and other key project personnel are appropriate and adequate to meet the objectives of the proposed project. (Notice of Final Requirements). (Up to 5 points).

(4) The qualifications, including relevant training, expertise, and experience, of the project director, key personnel, and project consultants. (Notice of Final Requirements). (Up to 5 points).

(e) Quality of the project evaluation (Up to 10 points). In determining the quality of the evaluation, we consider the following factors:

(1) The extent to which the proposed methods of evaluation are thorough, feasible, and include the use of objective performance measures that are clearly related to the intended outcomes of the project and the Government Performance and Results Act of 1993 (GPRA) performance measures. (Section 437(d)(1) of GEPA). (Up to 5 points).

(2) The extent to which the methods of evaluation will provide performance feedback and continuous improvement toward achieving intended outcomes. (Notice of Final Requirements). (Up to 5 points).

2. Additional Selection Factor: In accordance with the requirement in section 116(e) of the Act, we have included the following additional selection factor from the Notice of Final Requirements:

We will award five points to applications from Tribally controlled colleges or universities that—

(a) Are accredited or are candidates for accreditation by a nationally recognized accreditation organization as an institution of postsecondary CTE; or

(b) Operate CTE programs that are accredited or are candidates for accreditation by a nationally recognized accreditation organization and issue certificates for completion of CTE programs (20 U.S.C. 2326(e)).

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

4. Risk Assessment and Special Conditions: Consistent with 2 CFR 200.205, before awarding grants under this competition, the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Appeal process: Any applicant denied funding under this NACTEP competition may request a hearing to review the Secretary's decision not to make the award. The Secretary will implement the appeal process in accordance with the procedures in 34 CFR 401.1. In accordance with those procedures, any applicant denied funding will have 30 calendar days to make a written request to the Secretary for a hearing to review the Secretary's decision. (25 U.S.C. 5321(b); 34 CFR 401.1).

2. Indian Self-Determination Contracts: Section 116(b)(2) of the Act provides that grants or contracts awarded under section 116 of the Act are subject to the terms and conditions of section 102 of the ISDEAA (25 U.S.C. 5321) and must be conducted in accordance with the provisions of sections 4, 5, and 6 of the Act of April 16, 1934 (25 U.S.C. 5345-5347) (Johnson-O'Malley Act), that are relevant to the programs administered under section 116(b) of the Act. The Act of April 16, 1934 authorizes the Secretary of the Interior to enter into contracts for the education of Indians and other purposes. Section 102 of the ISDEAA authorizes Indian Tribes to request self-determination contracts from the Department of Interior. Accordingly, an Indian Tribe or Tribal organization that has applied to the Secretary for funding under NACTEP and has been notified of its selection to be a funding recipient may submit a request to both the Secretary of Education (via the contact person listed under FOR FURTHER INFORMATION CONTACT) and the relevant Department of Interior contact person to operate its NACTEP project through a section 102 Indian self-determination contract.

After successful applicants are selected under this NACTEP competition, the Secretary will review any requests to operate a project under an Indian self-determination contract pursuant to the ISDEAA. If a request for an Indian self-determination contract is approved, the Indian Tribe or Tribal organization submitting the request will be required, to the extent possible, to operate its project in accordance with the ISDEAA, relevant provisions in sections 4, 5, and 6 of the Act of April 16, 1934 (25 U.S.C. 5345-5347), the Act, and the non-statutory program requirements specified in this notice.

The CTE programs provided through an Indian self-determination contract would have to be substantively the same as were proposed in the initial NACTEP application and approved by the Department. Any Indian Tribe or Tribal organization that is selected to receive funding under this competition, but whose request to operate the project under an Indian self-determination contract is denied, may appeal the denial to the Secretary. If you have questions about ISDEAA self-determination contracts, please contact the person listed under FOR FURTHER INFORMATION CONTACT. (Section 437(d)(1) of GEPA).

3. Award Notices: If your application is successful, we notify your U.S. Representative and U.S. Senators and send you a Grant Award Notification (GAN); or we may send you an email containing a link to access an electronic version of your GAN. We may notify you informally, also.

If your application is not evaluated or not selected for funding, we notify you.

4. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

5. Open Licensing Requirement: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. The dissemination plan can be developed and submitted after your application has been reviewed and selected for funding. For additional information on the open licensing requirements please refer to 2 CFR 3474.20.

6. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

7. Performance Measures: The Department has established the following performance measures for purposes of GPRA and for Department reporting under 34 CFR 75.110, which it will use to evaluate the overall performance of the grantee's project, as well as NACTEP as a whole:

(a) At the secondary level: An increase in—

(1) The percentage of CTE concentrators who graduate high school, as measured by—

(A) The four-year adjusted cohort graduation rate (defined in section 8101 of ESEA); and

(B) At the grantee's discretion, the extended-year adjusted cohort graduation rate (defined in section 8101 of ESEA);

(2) The percentage of CTE concentrators graduating from high school having attained postsecondary credits in the relevant CTE program earned through a dual or concurrent enrollment program or another credit transfer agreement;

(3) The percentage of CTE concentrators graduating from high school having participated in work-based learning;

(4) The percentage of CTE concentrators graduating from high school having attained a recognized postsecondary credential; and

(5) The percentage of CTE concentrators who, after exiting from secondary education, are in postsecondary education or advanced training, military service, or a service program, or are employed.

(b) At the postsecondary level: An increase in—

(1) The percentage of CTE concentrators who remain enrolled in postsecondary education, are in advanced training, military service, or a service program, or are employed; and

(2) The percentage of CTE concentrators who receive a recognized postsecondary credential.

Project-Specific Performance Measures: In addition to these measures, applicants may propose project-specific performance measures and performance targets consistent with the objectives of the proposed project. Examples of such project-specific performance measures could include student recruitment, student participation in work-based learning at the postsecondary level, and teacher and faculty participation in professional development.

Note: All grantees will be expected to submit a semi-annual and an annual performance report addressing these performance measures, to the extent that these performance measures apply to each grantee's NACTEP project.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format (e.g., Braille, large print, audiotape, or compact disc), to the extent reasonably practicable.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

[FR Doc. 2020-26112 Filed 11-27-20; 8:45 am]

BILLING CODE 4000-01-P